ENVIRONMENTAL PROTECTION AGENCY

[OW-2003-0064, FRL -7985-1]

National Clean Water Act Recognition Awards: Presentation of Awards During the Water Environment Federation's Technical Exposition and Conference (WEFTEC), and Announcement of 2005 National Awards Winners

AGENCY: Environmental Protection Agency (EPA).

ACTION: Notice.

SUMMARY: The Environmental Protection Agency will recognize municipalities and industries for outstanding and innovative technological achievements in wastewater treatment and pollution abatement programs at the annual Clean Water Act Recognition Awards ceremony during the Water Environment Federation's Technical Exposition and Conference (WEFTEC) in Washington, DC. An inscribed plaque will be presented to first and second place national winners for projects and programs in operations and maintenance at wastewater treatment facilities, biosolids management, pretreatment and storm water management. This action also announces the 2005 national awards winners.

DATES: Monday, October 31, 2005, 11:30 a.m. to 1 p.m.

ADDRESSES: The awards presentation ceremony will be held at the Washington Convention Center, 801 Mount Vernon Place, NW., Washington, DC.

FOR FURTHER INFORMATION CONTACT: Maria E. Campbell, Telephone: (202) 564-0628. Facsimile Number: (202) 501-2396. E-mail: campbell.maria@epa.gov. Also visit the Office of Wastewater Management's Web page at http://www.epa.gov/owm.

SUPPLEMENTARY INFORMATION: The Clean Water Act Recognition Awards are authorized by section 501(a) and (e) of the Clean Water Act, and 33 U.S.C. 1361(a) and (e). Applications and nominations for the national award must be recommended by EPA regions. A regulation establishes a framework for the annual recognition awards program at 40 CFR part 105. EPA announced the availability of application and nomination information for this year's awards (70 FR 18396, April 11, 2005). The awards program provides national recognition and encourages public support of programs aimed at protecting the public's health and safety and the nation's water quality. State water pollution control agencies and EPA regional offices make recommendations to headquarters for the national awards. Programs and projects being recognized are in compliance with applicable water quality requirements and have a satisfactory record with respect to environmental quality. Municipalities and industries are recognized for their demonstrated achievements in the following awards categories:

(1) Outstanding operations and maintenance practices at wastewater treatment facilities;

(2) Exemplary biosolids management projects, technology/innovation or development activities, research and public acceptance efforts;

(3) Outstanding municipal implementation and enforcement of local pretreatment programs;

(4) Implementing outstanding, innovative, and cost-effective storm water control. The winners of the EPA's 2005 National Clean Water Act Recognition Awards are listed below by category.

Operations and Maintenance Awards Category

First Place: | Sub-Category:
Durham Advanced Wastewater Treatment Facility Clean Water Services, Tigard, Oregon | Large Advanced Plant (tie).
Metro Wastewater Reclamation District, Denver, Colorado | Large Advanced Plant (tie).
Mount Holly Water Pollution Control Facility, Mount Holly, New Jersey | Medium Advanced Plant (tie).
Northwest Water Reclamation Facility, Kennesaw, Georgia | Medium Advanced Plant (tie).
Brownstown Wastewater Utility, Brownstown, Indiana | Small Advanced Plant.
Lawrence Municipal Wastewater Treatment Facility, Lawrence, Kansas | Large Secondary Plant.
Fountain Sanitation District, Fountain, Colorado | Medium Secondary Plant.
Newington New Hampshire Wastewater Treatment Facility, Newington, New Hampshire | Small Secondary Plant.
North Conway Wastewater Treatment Facility, North Conway, Connecticut | Large Non-discharging Plant.
South Blue River Waste Water Treatment Facility, Breckenridge Sanitation District, Breckenridge, Colorado | Small Non-discharging Plant.
Second Place: | Sub-Category:
Blue Lake Wastewater Treatment Plant, Metropolitan Council Environmental Services, Shakopee, Minnesota | Large Advanced Plant.
Wheaton Sanitary District, Wheaton, Illinois | Medium Advanced Plant.
Village of Lima Wastewater Treatment Plant, Lima, New York | Small Advanced Plant.
Town of Canton Water Pollution Control Facility, Canton, Connecticut | Small Secondary Plant.

Biosolids Management Awards Category

First Place: | Sub-Category:
District of Columbia Water and Sewer Authority, Biosolids Management Program, Washington, DC | Large Operating Projects.
Lawrence Municipal Wastewater Treatment Facility, | Small Operating Projects Lawrence, Kansas
Dr. Ken Barbarick and Dr. Jim Ippolito, Colorado State University, Fort Collins, Colorado | Research Activities.
Second Place: | Sub-Category:
West Jackson County Land Application Facility, Pascagoula, Mississippi | Small Operating Projects.
Honorable Mention: |
Butler County Department of Environmental Services, Hamilton, Ohio | Large Operating Projects.
Tri-Cities Regional Wastewater Authority and Veolia Water North America, Dayton, Ohio | Small Operating Projects.

Pretreatment Awards Category

First Place: | Sub-Category:
Central Contra Costa Sanitary District, Martinez, California | Greater than 20 Significant Industrial Users (SIUs).
City of Wilsonville Water Pollution Control Facility, Wilsonville, Oregon | 6-20 SIUs.
Second Place: | Sub-Category:
Broward County Water and Wastewater Services Utility Compliance and Monitoring Industrial Pretreatment Program, Pompano Beach, Florida | Greater than 20 SIUs.
Upper Merion Municipal Utility Authority, King of Prussia, Pennsylvania | 6-20 SIUs.

Stormwater Management Awards Category

First Place: | Sub-Category:
Northrop Grumman/Newport News/Continental Maritime of San Diego, Inc., San Diego, California | Industrial.

Dated: October 5, 2005.
James A. Hanlon,
Director, Office of Wastewater Management.

[FR Doc. 05-20815 Filed 10-17-05; 8:45 am]

BILLING CODE 6560-50-P